DEPARTMENT OF ENERGY

Federal Energy Regulatory Commission

Combined Notice of Filings # 1

February 12, 2007.

Take notice that the Commission received the following electric corporate filings:

Docket Numbers: EC07-59-000.

Applicants: FirstEnergy Generation Corporation.

Description: FirstEnergy Generation Corp submits its application requesting Commission authorization to consummate a transaction whereby it will lease a 93.5% interest in an existing generation facility.

Filed Date: 02/06/2007.

Accession Number: 20070208-0196.

Comment Date: 5 p.m. Eastern Time on Tuesday, February 27, 2007.

Docket Numbers: EC07-60-000.

Applicants: Alliance Energy Renewables, LLC; Mirant New York, Inc.; Mirant NY-Gen, LLC.

Description: Alliance Energy Renewables, LLC et al submits an application for approval of the disposition of jurisdictional facilities, pursuant to Section 203 of the FPA.

Filed Date: 02/07/2007.

Accession Number: 20070208-0124.

Comment Date: 5 p.m. Eastern Time on Wednesday, February 28, 2007.

Take notice that the Commission received the following electric rate filings:

Docket Numbers: ER97-4345-021; ER98-511-009.

Applicants: Oklahoma Gas and Electric Company; OGE Energy Resources Inc.

Description: Oklahoma Gas and Electric Company et al submit a change in status report relating to market-based rate authority previously granted to each of the OGE Companies in compliance with Order 652.

Filed Date: 02/06/2007.

Accession Number: 20070208-0189.

Comment Date: 5 p.m. Eastern Time on Tuesday, February 27, 2007.

Docket Numbers: ER00-2885-014; ER01-2765-013; ER02-1582-012; ER02-1785-009; ER02-2102-013; ER03-1283-006; ER06-1543-004; ER06-864-006; ER97-2414-006.

Applicants: Cedar Brakes I LLC; Cedar Brakes II LLC; Mohawk River Funding IV, L.L.C.; Thermo Cogeneration Partnership LP; Utility Contract Funding, L.L.C.; Vineland Energy LLC; Brush Cogeneration Partners; Bear Energy LP; Lowell Cogeneration Company Limited Partnership.

Description: Bear Energy, LP et al submit a notice that they have entered into an energy management agreement with MMC Mid-Sun, LLC pursuant to Order 652.

Filed Date: 02/07/2007.

Accession Number: 20070209-0108.

Comment Date: 5 p.m. Eastern Time on Wednesday, February 28, 2007.

Docket Numbers: ER01-313-010; ER01-424-010.

Applicants: California Independent System Operator Corporation; Pacific Gas and Electric Company

Description: California Independent System Operator Corporation submits its Grid Management Charges for the period 1/1/01 through 12/21/03, in accordance with Opinion 463-B.

Filed Date: 02/08/2007.

Accession Number: 20070212-0003.

Comment Date: 5 p.m. Eastern Time on Thursday, March 01, 2007.

Docket Numbers: ER05-1178-008; ER05-1191-008.

Applicants: Gila River Power, L.P.; Union Power Partners, L.P.

Description: Gila River Power, LP et al submit a notice of non-material change in status relating to their upstream ownership structure pursuant to § 35.27(c) of FERC's Rules and Regulations.

Filed Date: 02/07/2007.

Accession Number: 20070208-0190.

Comment Date: 5 p.m. Eastern Time on Wednesday, February 28, 2007.

Docket Numbers: ER05-1202-002.

Applicants: Blue Canyon Windpower II LLC.

Description: Blue Canyon Windpower II, LLC submits a revised tariff, FERC Electric Tariff, First Revised Volume 1.

Filed Date: 02/06/2007.

Accession Number: 20070208-0188.

Comment Date: 5 p.m. Eastern Time on Tuesday, February 27, 2007.

Docket Numbers: ER07-188-004; ER07-189-004; ER07-190-004; ER07-191-004; ER07-192-002.

Applicants: Duke Energy Carolinas, LLC; Duke Energy Indiana, Inc.; Duke Energy Kentucky, Inc.; Duke Energy Ohio, Inc.; Duke Energy Shared Services, Inc.

Description: Duke Energy Corp on behalf of Duke Energy Carolinas, LLC et al refiles its Duke Carolinas Service Agreement with Lockhart Power Co and 8 identified MISO agreements pursuant to the Commission's 1/8/07 order.

Filed Date: 02/06/2007.

Accession Number: 20070208-0143.

Comment Date: 5 p.m. Eastern Time on Tuesday, February 27, 2007.

Docket Numbers: ER07-489-001.

Applicants: Arizona Public Service Company.

Description: Arizona Public Service Co submits an errata to its 1/31/07 filing of an executed EEI Master Power Purchase and Sale Agreement with Tohono O'Odham Utility Authority.

Filed Date: 02/06/2007.

Accession Number: 20070208-0187.

Comment Date: 5 p.m. Eastern Time on Tuesday, February 27, 2007.

Docket Numbers: ER07-516-000

Applicants: Morgan Stanley Capital Group, Inc.

Description: Morgan Stanley Capital Group Inc. submits a response to FERC Staff's request regarding certain bilateral spot transactions for which it was the seller in the Western Electricity Coordinating Council region etc.

Filed Date: 01/26/2007.

Accession Number: 20070212-0004.

Comment Date: 5 p.m. Eastern Time on Friday, February 16, 2007.

Docket Numbers: ER07-521-000.

Applicants: New York Independent System Operator, Inc.

Description: The New York Independent System Operator, Inc. submits a compliance filing in response to Order 681 and 681-A.

Filed Date: 02/05/2007.

Accession Number: 20070208-0184.

Comment Date: 5 p.m. Eastern Time on Monday, February 26, 2007.

Docket Numbers: ER07-522-000.

Applicants: Old Trail Wind Farm, LLC.

Description: Old Trail Wind Farm, LLC submits a petition for order accepting market-based rate tariff for filing and granting waivers and blanket approvals.

Filed Date: 02/07/2007.

Accession Number: 20070208-0186.

Comment Date: 5 p.m. Eastern Time on Wednesday, February 28, 2007.

Docket Numbers: ER07-524-000.

Applicants: Warren Power, LLC.

Description: Warren Power, LLC submits a Cost-Based Capacity and Energy Sale Agreement w/EWO Marketing, LP pursuant to Section 205 of the FPA and Part 35 of FERC's Regs.

Filed Date: 02/07/2007.

Accession Number: 20070208-0122.

Comment Date: 5 p.m. Eastern Time on Wednesday, February 28, 2007.

Docket Numbers: ER07-525-000.

Applicants: Entergy Services, Inc.

Description: Entergy Services, Inc on behalf of Entergy Operating Companies submits the mutually-executed 2/5/07 Long-Term Firm Point-to-Point Transmission Service Agreement with American Electric Power Service Corp.

Filed Date: 02/07/2007.

Accession Number: 20070208-0121.

Comment Date: 5 p.m. Eastern Time on Wednesday, February 28, 2007.

Docket Numbers: ER07-526-000.

Applicants: Southern California Edison Company.

Description: Southern California Edison Co. submits an amended Dillon I Wind Project Interconnection Facilities Agreement et al with Dillon Wind, LLC.

Filed Date: 02/08/2007.

Accession Number: 20070212-0048.

Comment Date: 5 p.m. Eastern Time on Thursday, March 01, 2007.

Docket Numbers: ER07-527-000.

Applicants: Longview Fibre Paper and Packaging, Inc.

Description: Longview Fibre Paper and Packaging, Inc. submits an application for order accepting market-based rate tariff, granting authorizations and blanket authority, and waiving certain requirements.

Filed Date: 02/08/2007.

Accession Number: 20070212-0047.

Comment Date: 5 p.m. Eastern Time on Thursday, March 01, 2007.

Docket Numbers: ER07-528-000.

Applicants: Brookfield Energy Marketing US LLC.

Description: Brookfield Energy Marketing US LLC submits an application for market-based rate authorization (FERC Electric Tariff, Original Volume 1) and certain waivers and blanket authorizations.

Filed Date: 02/08/2007.

Accession Number: 20070212-0046.

Comment Date: 5 p.m. Eastern Time on Thursday, March 01, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E7-2858 Filed 2-20-07; 8:45 am]

BILLING CODE 6717-01-P